DEPARTMENT OF THE INTERIOR

National Park Service

Selma to Montgomery National Historic Trail Advisory Council Notice of Meeting

Notice is hereby given in accordance with the Federal Advisory Committee Act, Public Law 92-463, that a meeting of the Selma to Montgomery National Historic Trail Advisory Council will be held Tuesday, July 18, 2006 at 9 a.m. until 3:30 p.m., at the Lowndes County Interpretive Center located at 7001 Highway 80 West, Hayneville, Alabama. The Selma to Montgomery National Historic Trail Advisory Council was established pursuant to Public Law 100-192 establishing the Selma to Montgomery National Historic Trail. This Council was established to advise the National Park Service on such issues as preservation of trail routes and features, public use, standards for posting and maintaining trail markers, and administrative matters.

The matters to be discussed include:

(A) Welcome New Members.

(B) Update on Lowndes County IC.

(C) Update on other Interpretive Sites.

The meeting will be open to the public. However, facilities and space accommodating members of the public are limited and persons will be accommodated for first come, first serve basis. Anyone may file a written statement with Catherine F. Light, Trail Superintendent concerning the matters to be discussed.

Persons wishing further information concerning this meeting may contact Catherine F. Light, Trail Superintendent, Selma to Montgomery National Historic Trail, at 334-727-6390 (phone), 334-727-4597 (fax) or mail 1212 Old Montgomery Road, Tuskegee Institute, Alabama 36088.

Dated: June 21, 2006.
Shirley T. Streeter,
Administrative Officer, Selma to Montgomery NHT.

[FR Doc. 06-6075 Filed 7-7-06; 8:45 am]

BILLING CODE 4310-04-M